ENVIRONMENTAL PROTECTION AGENCY

40 CFR Part 52

[EPA-R07-OAR-2015-0105; FRL-9976-48-Region 7]

Approval and Promulgation of Air Quality Implementation Plans; Missouri; Update to Materials Incorporated by Reference; Correcting Amendments

AGENCY: Environmental Protection Agency (EPA).

ACTION: Final rule; correcting amendments.

SUMMARY: The Environmental Protection Agency (EPA), in a final rule action published in the Federal Register on August 6, 2015, erroneously approved and codified previously removed entries; erroneously omitted the addition of previously approved entries; and erroneously published codification of previously revised entries. This technical amendment corrects the erroneous entries.

DATES: This rule is effective on April 9, 2018.

FOR FURTHER INFORMATION CONTACT: Jan Simpson at (913) 551-7089, or by email at simpson.jan@epa.gov.

SUPPLEMENTARY INFORMATION: The August 6, 2015 (80 FR 46804), Federal Register final rule and notice of administrative change inadvertently and erroneously approved and codified previously removed Missouri regulations; omitted the addition of a previously approved regulation; and erroneously published incorrect state effective dates and citation information for previously approved entries.

On October 21, 2014 (79 FR 62844), in a direct final rule, EPA approved a revision to “10-6.400”. The state effective date is 6/27/13.

On March 3, 2015 (80 FR 11323), in a final rule, EPA approved a revision to remove the chapter titled “Missouri Department of Public Safety, Division 50-State Highway Patrol, Chapter 2—Motor Vehicle Inspection” and its entries for “50-2.010 through 50-2.420”. This final rule also approved the addition of “10-5.381”.

On March 4, 2015 (80 FR 11577), EPA approved in a direct final rule a revision to remove the entry for “10-5.240” and approved revisions to Missouri regulations “10-6.010”, “10-6.020” and “10-6.040”. The state effective date of “10-6.010” is 7/30/14; the state effective date of “10-6.020” is 3/30/14; and the state effective date of “10-6.040” is 11/30/14.

Therefore, we are correcting the EPA's regulations to remove “10-5.240”; add “10-5.381”; remove the chapter titled “Missouri Department of Public Safety, Division 50-State Highway Patrol, Chapter 2—Motor Vehicle Inspection” and its entries for “50-2.010 through 50-2.420”; and revise “10-6.010”, “10-6.020” and “10-6.040” to reflect the most currently approved dates and citations.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds,

Dated: March 27, 2018.
Karen A. Flournoy,
Acting Regional Administrator, Region 7.

Accordingly, EPA amends 40 CFR part 52 as set forth below:

PART 52—APPROVAL AND PROMULGATION OF IMPLEMENTATION PLANS

1. The authority citation for part 52 continues to read as follows:

Authority: 42 U.S.C. 7401 et seq.

Subpart AA—Missouri

2. Amend § 52.1320(c) by:

a. Removing the entry for “10-5.240”;

b. Adding the entry for “10-5.381” in numerical order;

c. Revising entries “10-6.010”, “10-6.020”, “10-6.040”, and “10-6.400”; and

d. Removing the heading “Missouri Department of Public Safety, Division 50-State Highway Patrol, Chapter 2—Motor Vehicle Inspection” and the entries “50-2.010” through “50-2.420”.

The addition and revisions read as follows:

§ 52.1320 Identification of plan.

* * * * *

(c) * * *

EPA-Approved Missouri Regulations
Missouri citation | Title | State effective date | EPA approval date | Explanation
Missouri Department of Natural Resources
* * * * * * *
Chapter 5—Air Quality Standards and Air Pollution Control Regulations for the St. Louis Metropolitan Area
* * * * * * *
10-5.381 | On-Board Diagnostics Motor Vehicle Emissions Inspection | 12/30/2012 | 3/3/2015, 80 FR 11323 |
* * * * * * *
Chapter 6—Air Quality Standards, Definitions, Sampling and Reference Methods, and Air Pollution Control Regulations for the State of Missouri
10-6.010 | Ambient Air Quality Standards | 7/30/2014 | 3/4/2015, 80 FR 11577 | Hydrogen Sulfide and Sulfuric Acid state standards are not SIP approved.
10-6.020 | Definitions and Common Reference Tables | 3/30/2014 | 3/4/2015, 80 FR 11577 | Many of the definitions pertain to Title V, 111(d) and asbestos programs and are approved in the SIP because they provide overall consistency in the use of terms in the air program. Similarly, the EPA has also approved this rule as part of the Title V program, and 111(d) even though many of the definitions pertain only to the SIP.
* * * * * * *
10-6.040 | Reference Methods | 11/30/2014 | 3/4/2015, 80 FR 11577. |
* * * * * * *
10-6.400 | Restriction of Emission of Particulate Matter From Industrial Processes | 6/27/2013 | 10/21/2014, 79 FR 62844. |
* * * * * * *

* * * * *

[FR Doc. 2018-07216 Filed 4-6-18; 8:45 am]

BILLING CODE 6560-50-P